OFFICE OF PERSONNEL MANAGEMENT

[OMB No. 3206-0005]

Submission for OMB Review; Comment Request for Revised Information Collections

AGENCY: Office of Personnel Management.

ACTION: Notice.

Questionnaire for Non-Sensitive Positions, Standard Form 85 (SF 85); Questionnaire for Public Trust Positions, Standard Form 85P (SF 85P); Supplemental

Questionnaire for Selected Positions, Standard Form 85PS (SF 85PS); Questionnaire for National Security Positions, Standard Form 86 (SF 86); Continuation Sheet for Questionnaires Sf 85, 85p, and 86, Standard Form 86A (SF 86A); and Certification Statement for SF 86 (SF 86C).

SUMMARY: In accordance with the Paperwork Reduction Act of 1995 (Pub. L. 104-13), this notice announces that the Office of Personnel Management (OPM) submitted to the Office of Management and Budget a request for clearance of these information collections:

• Questionnaire for Non-Sensitive Positions, Standard Form 85 (SF 85);

• Questionnaire for Public Trust Positions, Standard Form 85P (SF 85P);

• Supplemental Questionnaire for Selected Positions, Standard Form 85PS (SF 85PS);

• Questionnaire for National Security Positions, Standard Form 86 (SF 86);

• Continuation Sheet for Questionnaires SF 85, 85P, and 86, Standard Form 86A (SF 86A);

• Certification Statement for SF 86, Standard Form SF 86C (SF 86C); and

• Parallel, electronic versions of the SF 85, SF 85P, SF 85PS, and SF 86, including accompanying releases, housed in a system named e-QIP (Electronic Questionnaires for Investigations Processing).

These information collections are completed by respondents for, or incumbents of, Government positions or positions for the Government under contract, or by military personnel. The collections are used as the basis for background investigations to establish that such persons are:

• Suitable for employment or retention in the position;

• Suitable for employment or retention in a public trust position;

• Suitable for employment or retention in a national security position; and

• Eligible for access to classified national security information.

The SF 86A may be used in lieu of blank paper as a continuation of the form with which its use is associated and not for any unique purpose exclusive from the associated form. The SF 86C is used in lieu of completing a new SF 86 and will allow the individual to indicate that there have been no changes in the data provided on the most recently filed SF 86 or it will allow the individual to easily provide new or changed information. No investigation will be initiated based solely on the execution of this form.

The SF 85, SF 85P, SF 85PS, SF 86, SF 86A, and SF 86C are completed by both employees of the Federal Government and individuals not employed with the Federal Government, including Federal contractors and military personnel.

Federal employees are defined as those individuals who are employed as civilian or military personnel with the Federal Government. Non-Federal employees include members of the general public and all individuals employed as Federal and military contractors, or individuals otherwise not directly employed by the Federal Government.

It is estimated that 89,400 non-Federal individuals will complete the SF 85 annually. Each form takes approximately 60 minutes to complete. The estimated annual public burden is 89,400 hours.

It is estimated that 62,000 non-Federal individuals will complete the SF 85P annually. Each form takes approximately 60 minutes to complete. The estimated annual burden is 62,000 hours.

It is estimated that 3,600 non-Federal individuals will complete the SF 85PS annually. Each form takes approximately 20 minutes to complete. The estimated annual burden is 1,200 hours.

It is estimated that 104,000 non-Federal individuals will complete the SF 86 annually. Each form takes approximately 120 minutes to complete. The estimated annual burden is 208,000 hours.

It is estimated that 16,000 non-Federal individuals will complete the SF 86A annually. Each form takes approximately 20 minutes to complete. The estimated annual burden is 5,300 hours.

It is estimated that 1,200 non-Federal individuals will complete the SF 86C annually. Each form takes approximately 15 minutes to complete. The estimated annual burden is 300 hours.

e-QIP (Electronic Questionnaires for Investigations Processing) is a Web-based system application that houses electronic versions of the SF 85, SF 85P, SF 85PS, and SF 86. This Internet data collection tool is used in place of—not in addition to—the paper versions of these forms. Individuals using the e-QIP versions will enjoy the convenience of faster processing time and immediate data validation to ensure accuracy of their personal information. The data requested on these forms is consistent with that requested on their paper counterparts.

Users (individuals with e-QIP accounts) of this system are respondents, agency users, and e-QIP administrators. The system is designed to automate the data collection process, apply all required data editing rules to the respondent-supplied information, enforce data integrity, and to provide sponsoring agencies an automated capability to review and approve each respondent's submission before releasing the data to an investigative services provider (ISP). e-QIP serves as a feeder system to other governmental systems, including ISPs and sponsoring agency personnel or security systems such as that at the State Department.

The data contained in e-QIP is sensitive personal information. The Privacy Act (5 U.S.C. 552a (b)) prescribes the restrictions on the use and proper handling of this information, and provides penalties for unauthorized disclosure. The type of information collected includes, but is not limited to: Personal identifiers, including name, social security number, and date and place of birth; employment, residence, and education history; references; medical history; financial history; arrests and convictions; and other personal information of a sensitive nature.

A respondent's complete and certified investigative data will remain secured in the e-QIP system until the next time the respondent is sponsored by an agency to complete a new investigative form. Upon initiation, the respondent's previously entered data (except ‘yes/no' questions) will populate a new investigative request and the respondent will be allowed to update their information and certify the data. The numerous benefits offered by e-QIP to Federal agency customers have resulted in its rapid adoption across the government. Currently there are over 3,800 e-QIP Federal agency users at over 50 different Federal agencies, to include every major cabinet department, servicing a worldwide community of respondents. At any given time there are approximately 69,000 active investigative requests in e-QIP and since October 1, 2004 over 200,000 cases have been successfully scheduled for investigation. The built-in flexibility of e-QIP allows its data collection capabilities to be utilized by other ISPs for various portions of their investigative workload.

At the beginning of FY05, e-QIP received between 300 and 500 cases per week. Presently, e-QIP receives anywhere from 5,000 to 10,000 cases per week, a significant increase in usage in a nine-month time frame. Future enhancements of e-QIP include a re-designed agency user menu for version 2.0, the addition of the common financial form (SF-714), and the automation of revised versions of the SF 85, SF 85P, SF 85PS, and SF 86. Additionally, as of April 1, 2006, the Department of Homeland Security (DHS), the Department of Commerce (DOC), the Department of Defense (DOD), the Department of Energy (DOE), the Department of Justice (DOJ), and the Department of Transportation (DOT) will use e-QIP, in some capacity, to collect security clearance application information from respondents and transmit them to OPM.

For copies of this proposal, contact Mary Beth Smith-Toomey on (202) 606-8358, Fax (202) 418-3251, or e-mail at marybeth.smith-toomey@opm.gov. Please be sure to include a mailing address with your request.

DATES: Comments on this proposal should be received within 30 calendar days from the date of this publication.

ADDRESSES: Send or deliver comments to:

Kathy Dillaman, Associate Director, Federal Investigative Services Division, U.S. Office of Personnel Management, 1900 E Street, Room 5416, Washington, DC 20415;

and

Rachel Potter/Brenda Aguilar, Desk Officer, Office of Information and Regulatory Affairs, Office of Management and Budget, New Executive Office Building, NW., Room 10235, Washington, DC 20503.

For Information Regarding Administrative Coordination Contact: Mary-Kay Brewer, Program Analyst, Operational Policy Group, Federal Investigative Services Division, U.S. Office of Personnel Management, (202) 606-1835.

Dan G. Blair,
Deputy Director.

[FR Doc. E6-8442 Filed 5-31-06; 8:45 am]

BILLING CODE 6325-53-P